DEPARTMENT OF LABOR

Employment and Training Administration

Workforce Investment Act: Migrant and Seasonal Farmworker Youth Program Under WIA Section 127(b)(1)(A)(iii) and Section 167

AGENCY: Employment and Training Administration, Labor.

ACTION: Notice of Proposed Data Collection.

SUMMARY: The Department of Labor, as part of its continuing effort to reduce paperwork and respondent burden, conducts a preclearance consultation process to provide the general public and Federal agencies with an opportunity to comment on proposed and/or continuing collections of information in accordance with the Paperwork Reduction Act of 1995 (PRA95) [44 U.S.C. 3506(c)(2)(A)]. This process helps to ensure that requested data can be provided in the desired format, reporting burdens are minimized, collection instruments are clearly understood, and the impact of collection requirements on respondents can be properly assessed. Currently, the Employment and Training Administration (ETA), in consultation with the Migrant and Seasonal Farmworker Employment and Training Advisory Committee, is soliciting comments concerning the proposed institution of a “reporting and performance standards system for the Youth Title I-D Section 167 National Farmworker Jobs Programs of the Workforce Investment Act (WIA)”. A copy of the proposed information collection request (ICR) can be obtained by contacting the office listed below in the address section of this notice.

DATES: Written comments must be submitted to the office listed in the addressee section below on or before March 19, 2001.

ADDRESSES: Alicia Fernandez-Mott, Chief, Division of Seasonal Farmworker Programs, Employment and Training Administration, U.S. Department of Labor, Room N-4641, 200 Constitution Avenue, NW, Washington, DC 20210. Telephone: (202) 693-3729 (VOICE) or (202) 693-3818 (FAX) (these are not toll-free numbers) or INTERNET: afernandez@doleta.gov.

FOR FURTHER INFORMATION CONTACT: Copies of the information collection request are available for inspection in the Division of Seasonal Farmworker Programs at the above address, and will be mailed to persons who request copies in writing from Alicia Fernandez-Mott at the above address.

SUPPLEMENTARY INFORMATION:

I. Background

The Employment and Training Administration of the Department of Labor, in consultation with the Migrant and Seasonal Farmworker Employment and Training Advisory Committee, is requesting approval for a new reporting and performance standards system for Youth Title I-D Section 167 National Farmworker Jobs Programs of the Workforce Investment Act (WIA), youth grantees for three program years (July 1, 2000 to June 30, 2003). This is the first time since the Comprehensive Employment and Training Act (CETA), that funds have been appropriated for farmworker youth activities. The Department has developed the following recommended planning and reporting requirements.

II. Desired Focus of Comments

The Department of Labor is particularly interested in comments which:

• Evaluate whether the proposed collection of information is necessary for the proper performance of the functions of the agency, including whether the information will have practical utility;

• Evaluate the accuracy of the agency's burden estimate for the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Action

This proposed ICR will be used by approximately 10 Workforce Investment Act (WIA) section 167 (d) youth grantees as the primary reporting and performance measurement vehicle for enrolled youths, their characteristics, training and services provided, outcomes, including job placement and retention, and attainment of basic skills, as well as detailed financial data on program expenditures.

Type of Review: New.

Agency: Employment and Training Administration.

Title: Planning, reporting, and performance system for WIA title I-D, Section 167(d) National Farmworker Jobs Program youth grantees.

OMB Number: 1205-0NEW.

Catalog of Federal Domestic Assistance Number:

Record Keeping: Grantees shall retain supporting and other documents necessary for the compilation and submission of the subject reports for three years after submission of the final financial report for the grant in question [29 CFR 97.42 and/or 29 CFR 95.53].

Affected Public: State agencies; private, non-profit corporations.

Cite/Reference/Form/etc.: The collection instrument is the Youth, Title I-D, Section 167 National Farmworker Jobs Programs Planning, Reporting, and Performance System and related instructions. OMB-approved forms are provided for use in gathering information at the grantee field office level.

Total Respondents: 10.

Frequency: Annually for planning information; quarterly for both financial information and participation and characteristics information.

Total Annual Responses:

Planning—30 (one narrative, one Budget Information Summary, and one Program Planning Summary per grantee per year).

Participant Reporting—40 (one Program Status Summary per quarter, per grantee per year).

Participant Record Keeping (NFJP SPIR)—5,000 records.

There are four statutorily-required quarterly financial status reports per grantee per year, by year of appropriation. At this time, it is anticipated that the Standard Form (SF) 269 will be used to fulfill this requirement. Therefore, no separate collection/burden information for this standard form is being included here. For participation and characteristics information, there are four quarterly submissions per year, regardless of the year(s) of funding expended during the program year. There is only one format for the participation and characteristics report.

Average Time per Grantee Response:

Annual Plan—5 hours (narrative only).

Budget Information Summary (BIS)—15 hours; [ETA 8595].

Program Planning Summary (PPS)—15 hours; [ETA 8596].

Program Status Summary (PSS)—7 hours; [ETA 8598].

Record Keeping (SPIR)—3 hours (per participant record).

The individual time per response varies widely depending on the degree of automation attained by individual grantees. Grantees also vary according to the numbers of individuals served in each program year. If the grantee has a fully-developed and automated MIS, the response time is limited to one-time programming plus processing time for each response.

Estimated Total Annual Burden Hours:

Total Burden Hours—15,630 hours per year.

Planning narrative (NFJP)—10 responses times 5 hours per response equals 50 burden hours.

BIS (NFJP)—10 responses times 15 hours per response equals 150 burden hours.

PPS (NFJP)—10 responses times 15 hours per response equals 150 burden hours.

PSS (NFJP)—4 responses per grantee times 7 hours per response times 10 grantees equals 280 burden hours.

Record Keeping (NFJP SPIR)—5,000 files times 3 hours per file equals 15,000 hours.

Even though no burden estimate for the SF-269 is included here, it should be noted that expenditures must be reported on by year of appropriation, regardless of the year in which the funds were expended. Thus, if more that one year's appropriation is expended in a given quarter, two FSR's (or more) must be submitted for that period.

Total Burden Cost (capital/startup): $-0-.

Total Burden Cost (operating/maintaining):

Youth Title I-D National Farmworker Jobs Program—15,630 hours times $15.00 per hour equals $224,450.00.

Costs may vary widely among grantees, from nearly no additional cost to some higher figure, depending on the state of automation attained by each grantee and the wages paid to the staff actually completing the various forms. All costs associated with the submission of these forms are allowable grant expenses.

Comments submitted in response to this request will be summarized and/or included in the Office of Management and Budget request for approval of the information collection. All comments will become a matter of public record.

Signed at Washington, DC, this 11th day of January, 2001.
James C. DeLuca,
Acting Director, Office of National Programs.

[FR Doc. 01-1445 Filed 1-17-01; 8:45 am]

BILLING CODE 4510-30-P